PRIVACY AND CIVIL LIBERTIES OVERSIGHT BOARD

[Notice-PCLOB-2025-01; Docket No. 2025-0002; Sequence No.13]

Privacy and Civil Liberties Oversight Board Public Forum; Correction

AGENCY: U.S. Privacy and Civil Liberties Oversight Board (PCLOB).

ACTION: Notice; correction.

SUMMARY: The PCLOB published a document in the Federal Register of November 17, 2025, concerning a virtual public forum to discuss how financial tools historically used by the government to fight terrorism may now be impacting Americans' privacy and civil liberties. The document contained incorrect information in the SUMMARY and DATES sections. This document corrects the errors.

FOR FURTHER INFORMATION CONTACT: Alan Silverleib, Director of Legislative and Public Affairs, Privacy and Civil Liberties Oversight Board, at 202-997-7719 and via email at pao@pclob.gov.

SUPPLEMENTARY INFORMATION: In the Federal Register of November 17, 2025, in FR Doc. 2025-198971:

1. On page 51414, in the first column, in the SUMMARY, correct “Eastern Daylight Time (EDT)” to read “Eastern Standard Time (EST)”.

2. On page 51414, in the first column, in the DATES section, correct “EDT” to read “EST”.

Alan Silverleib,
Legislative and Public Affairs Director, Privacy and Civil Liberties Oversight Board.

[FR Doc. 2025-20446 Filed 11-19-25; 8:45 am]

BILLING CODE 6820-B3-P